DEPARTMENT OF DEFENSE

Department of the Army, Corps of Engineers

Notice of Availability of the Final Missouri River Recovery Management Plan and Environmental Impact Statement

AGENCY: Department of the Army, U.S. Army Corps of Engineers, DoD.

ACTION: Notice; extension of final EIS waiting period.

SUMMARY: The Notice of Availability for the Final Missouri River Recovery Management Plan and Environmental Impact Statement (MRRMP-FEIS) published in the Federal Register on Friday, August 31, 2018, stated the waiting period for signature of the MRRMP-FEIS Record of Decision would end on October 9, 2018. The U.S. Army Corps of Engineers is extending the waiting period through October 22, 2018.

FOR FURTHER INFORMATION CONTACT: Tiffany Vanosdall, U.S. Army Corps of Engineers at (402) 995-2695 or by email at tiffany.k.vanosdall@usace.army.mil.

SUPPLEMENTARY INFORMATION: The MRRMP-FEIS can be downloaded online at: http://www.nwo.usace.army.mil/mrrp/mgmt-plan/ or at: http://parkplanning.nps.gov/MRRMP.

Brenda S. Bowen,
Army Federal Register Liaison Officer.

[FR Doc. 2018-21155 Filed 9-27-18; 8:45 am]

BILLING CODE 3720-58-P